NUCLEAR REGULATORY COMMISSION

[Docket No.: 070-364]

Notice of License Termination for the Babcock and Wilcox Facility in Parks Township, Pennsylvania

AGENCY: Nuclear Regulatory Commission.

ACTION: Notice of license termination.

FOR FURTHER INFORMATION CONTACT: Amir Kouhestani, Project Manager, Decommissioning Directorate, Office of Nuclear Materials Safety and Safeguards, U.S. Nuclear Regulatory Commission, Washington, DC 20555-0001. Telephone: (301) 415-0023; fax number: (301) 415-5398; e-mail: aak@nrc.gov.

This notice is to inform the public that the U.S. Nuclear Regulatory Commission (NRC or Commission) has terminated the Special Nuclear Material License No. SNM-414 (SNM-414), issued to Babcock and Wilcox Company, Pennsylvania Nuclear Service Operation (licensee). The licensee used radioactive material at its facility in Parks Township, Pennsylvania, for conducting fuel fabrication, research and development, and service work from 1960 until 1996. On January 26, 1996, the licensee requested a license amendment authorizing it to decommission the Parks facility. This request and an opportunity for hearing was published in the Federal Register on October 10, 1996 (61 FR 53240). The NRC staff published an Environmental Assessment (EA) on July 2, 1997 (62 FR 35844) which concluded that this licensing action would not have a significant adverse effect on the quality of the human environment. NRC approved Revision 3.1 of the Decommissioning Plan (DP) in 1998.

The licensee has completed site decommissioning, and the post decommissioning groundwater monitoring of the site in accordance with the approved DP and the conditions discussed in NRC License No. SNM-414.

Based on the remedial actions taken by the licensee, the NRC staff's review of the licensee's termination surveys, and the results of the NRC staff's confirmatory surveys, the Commission concludes that the licensee has completed the decommissioning activities in accordance with its approved DP, and the site is suitable for unrestricted release.

Dated at Rockville, Maryland, this 24th day of August 2004.
For the Nuclear Regulatory Commission.
Daniel M. Gillen,
Deputy Director for the Decommissioning Directorate, Division of Waste Management and Environmental Protection, Office of Nuclear Material Safety and Safeguards.

[FR Doc. 04-19663 Filed 8-27-04; 8:45 am]

BILLING CODE 7590-01-P